Proclamation 9938 of September 30, 2019

National Disability Employment Awareness Month, 2019

By the President of the United States of America

A Proclamation

National Disability Employment Awareness Month is a time to celebrate the contributions of Americans with disabilities to our country's workforce and economic strength. We also reaffirm our commitment to fostering opportunity for Americans of all abilities to apply their skills and talents in the workplace as they pursue their dreams.

Thanks to my Administration's economic policies, we have seen the creation of more than 6.3 million new jobs since the election, providing tremendous opportunities for job seekers nationwide. In April, the national unemployment rate dropped to a near half-century low, and the unemployment rate for Americans with disabilities reached the lowest level on record. It is essential that we continue creating an environment in which Americans with disabilities have access to full participation in our economy and the ability to experience the benefits of employment.

My Administration is working to expand opportunities to empower men and women with disabilities through apprenticeships. In March, the Department of Labor (DOL) announced the Apprenticeship Inclusion Model (AIM) initiative to expand career pathways leading to family-sustaining wages for individuals with disabilities. These efforts help Americans earn paychecks while also earning credentials and degrees. Together with employers, unions, and apprenticeship programs, AIM will improve the recruitment and retention of individuals with disabilities and support the expansion of inclusive apprenticeship programs.

States are in the best position to create real, lasting, and quantifiable change through solutions tailored to the economic and employment realities within their communities, especially for Americans with disabilities. Through the State Exchange on Employment and Disability initiative, we are helping States develop, implement, and promote policies to improve workforce inclusion for persons with disabilities, including veterans with service-related disabilities. Last year alone, this initiative engaged policymakers in 29 States to help advance employment opportunities and ensure that workforce development, transportation, and technology are disability-inclusive.

Employers, both public and private, are critical to our nationwide efforts to promote workplace access for individuals with disabilities. My Administration has launched a major initiative to encourage Federal contractors to take proactive steps to recruit, hire, retain, and advance people with disabilities. Additionally, two DOL programs, the Employer Assistance and Resource Network on Disability Inclusion and the Job Accommodation Network, have helped tens of thousands of employers implement effective organizational policies and individual accommodation solutions that keep American workers on the job and contributing to our workplaces and economy. Automation and technology are changing the way in which work is organized and performed—and who can perform it. Many jobs will be open to new populations, particularly individuals with disabilities.

This month, we renew our dedication to furthering the participation of Americans with disabilities in the workforce. We are grateful to all of our Nation's employers who hire individuals with disabilities, giving them the opportunity to excel as they provide for themselves and their families. By supporting the aspirations of all Americans who want to work, we will strengthen our workplaces, economy, and communities.

The Congress, by Joint Resolution approved August 11, 1945, as amended (36 U.S.C. 121), has designated October of each year as “National Disability Employment Awareness Month.”

NOW, THEREFORE, I, DONALD J. TRUMP, President of the United States of America, do hereby proclaim October 2019 as National Disability Employment Awareness Month. I call upon government and labor leaders, employers, and the great people of the United States to recognize the month with appropriate programs, ceremonies, and activities across our land.

IN WITNESS WHEREOF, I have hereunto set my hand this thirtieth day of September, in the year of our Lord two thousand nineteen, and of the Independence of the United States of America the two hundred and forty-fourth.

[FR Doc. 2019-21762

Filed 10-2-19; 11:15 am]

Billing code 3295-F0-P